FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 19, 2016

A. Federal Reserve Bank of St. Louis (David L. Hubbard, Senior Manager) P.O. Box 442, St. Louis, Missouri 63166-2034. Comments can also be sent electronically to Comments.applications@stls.frb.org:

1. Teresa Sue Spangler Allemang, as Trustee of the Teresa Sue Spangler Allemang FIB Revocable Trust, both of Hilton Head, South Carolina, to acquire voting shares of First Independent Bancshares, Inc., and thereby acquire voting shares of First Independent Bank, both in Aurora, Missouri.

B. Federal Reserve Bank of Minneapolis (Jacquelyn K. Brunmeier, Assistant Vice President) 90 Hennepin Avenue, Minneapolis, Minnesota 55480-0291:

1. Jan Stroup, and Mary Jean Korsmo, both of Minneapolis, Minnesota, both as members of the Jan Stroup family shareholder group; to retain voting shares of McLean Bank Holding Company, Garrison, North Dakota, and thereby indirectly retain voting shares of Bank of Turtle Lake, Turtle Lake, North Dakota; Garrison State Bank and Trust, Garrison, North Dakota; and Farmers Security Bank, Washburn, North Dakota.

C. Federal Reserve Bank of Kansas City (Dennis Denney, Assistant Vice President) 1 Memorial Drive, Kansas City, Missouri 64198-0001:

1. Elaine M. Dittrich, Tilden, Nebraska, as a member of the Dittrich family group and acting in concert; to acquire voting shares of Tilden Bancshares, Inc., and thereby indirectly acquire voting shares of The Tilden Bank, both in Tilden, Nebraska.

Board of Governors of the Federal Reserve System, March 30, 2016.
Michael J. Lewandowski,
Associate Secretary of the Board.

[FR Doc. 2016-07581 Filed 4-1-16; 8:45 am]

BILLING CODE 6210-01-P